DEPARTMENT OF COMMERCE

National Oceanic and Atmospheric Administration

[I.D. 030507G]

Mid-Atlantic Fishery Management Council (MAFMC); Public Meeting

AGENCY: National Marine Fisheries Service (NMFS), National Oceanic and Atmospheric Administration (NOAA), Commerce.

ACTION: Notice of a public meeting.

SUMMARY: The Trawl Survey Advisory Panel, composed of representatives from the National Marine Fisheries Service's Northeast Fisheries Science Center (NEFSC), the Mid-Atlantic Fishery Management Council (MAFMC), the New England Fishery Management Council (NEFMC), Atlantic States Marine Fisheries Commission (ASMFC), and several independent scientific researchers, will hold a public meeting.

DATES: The meeting will be held on Wednesday, April 4, 2007, from 8 a.m. to 4 p.m.

ADDRESSES: The meeting will be held at the Sheraton Providence Airport, 1850 Post Road, Warwick, RI 02886, telephone: (401) 738-4000.

Council address: Mid-Atlantic Fishery Management Council; 300 S. New Street, Room 2115, Dover, DE 19904, telephone: (302) 674-2331.

FOR FURTHER INFORMATION CONTACT: Daniel T. Furlong, Executive Director, Mid-Atlantic Fishery Management Council; 300 S. New Street, Room 2115, Dover, DE 19904; telephone: (302) 674-2331, extension 19.

SUPPLEMENTARY INFORMATION: The purpose of this meeting is to tour the new research vessel FSV Henry B. Bigelow, discuss Protocol Development Cruises, NEFSC's upcoming Calibration Design Workshop, NEAMAP cruise usage in defining differences between inshore and offshore stations, and gear standardization issues.

Special Accommodations

The meeting is physically accessible to people with disabilities. Requests for sign language interpretation or other auxiliary aids should be directed to M. Jan Bryan at the Mid-Atlantic Council Office, (302) 674-2331 extension 18, at least 5 days prior to the meeting date.

Dated: March 6, 2007.
Tracey L. Thompson,
Acting Director, Office of Sustainable Fisheries, National Marine Fisheries Service.

[FR Doc. E7-4224 Filed 3-8-07; 8:45 am]

BILLING CODE 3510-22-S